DEPARTMENT OF LABOR

Office of the Secretary

Women's Bureau; Proposed Information Collection Request Submitted for Public Comment and Recommendations; Women in Apprenticeship and Nontraditional Occupations (WANTO) Act Grant Application and Reporting Requirements

ACTION: Notice.

SUMMARY: The Department of Labor, as part of its continuing effort to reduce paperwork and respondent burden conducts a preclearance consultation program to provide the general Public and Federal agencies with an opportunity to comment on proposed and/or continuing collections of information in accordance with the Paperwork Reduction Act of 1995 (PRA95) ( 44 U.S.C. 3506(c) (2) (A)). This program helps to ensure that requested data can be provided in the desired format, reporting burden (time and financial resources) is minimized, collection instruments are clearly understood, and the impact of collection requirements on respondents can be properly assessed.

DATES: Submit comments on or before July 12, 2002.

ADDRESSES: Send comments to the Women's Bureau, U.S. Department of Labor, 200 Constitution Ave., NW., Washington, DC 20210, to the attention of Diane Faulkner. Commenters are encouraged to send their comments on a computer disk, or via Internet E-mail to Faulkner-Diane@dol.gov, along with an original printed copy. Ms. Faulkner can be reached at (202) 693-6752 (voice) or (202) 693-6776 (facsimile).

FOR FURTHER INFORMATION CONTACT: Diane Faulkner, Economist, U.S. Department of Labor, Women's Bureau, 200 Constitution Ave., N.W., Washington, DC 20210. Ms Faulkner can be reached at Faulkner-Diane@dol.gov (Internet E-mail), (202) 693-6752 (voice), or (202) 693-6776 (facsimile).

SUPPLEMENTARY INFORMATION:

1. Background

The Women in Apprenticeship and Nontraditional Occupations (WANTO) Act of 1992 stipulates that:

“Each community-based organization that desires to receive a grant to provide technical assistance under section 2503(a) of this title to employers and labor unions, shall submit an application to the Secretary at such time, in such manner, and accompanied by such information as the Secretary may reasonably require.

In awarding grants under section 2503(a) of this title, the Secretary shall give priority to applications from community-based organizations that—

(1) demonstrate experience preparing women to gain employment in apprenticeable occupations or other nontraditional occupations;

(2) demonstrate experience working with the business community to prepare them to place women in apprenticeable occupations or other nontraditional occupations;

(3) have tradeswomen or women in nontraditional occupations as active members of the organization, as either employed staff or board members; and

(4) have experience delivering technical assistance.”

II. Desired Focus of Comments

Currently the Office of the Secretary, Women's Bureau is soliciting comments concerning the grant application and reporting requirements for the Women in Apprenticeship and Nontraditional Occupations (WANTO) Act grants. The Department of Labor is particularly interested in comments which:

• Evaluate whether the proposed collection of information is necessary for the proper performance of the functions of the agency, including whether the information will have practical utility;

• Evaluate the accuracy of the agency's estimate of the burden of the proposed collection of information; including the validity of the methodology and assumptions used.

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed by contacting the employee listed above in the FOR FURTHER INFORMATION CONTACT section of this notice for a hard copy.

III. Current Actions

For every fiscal year for which WANTO Act grant funds are included in the Federal budget, the following process takes place during that fiscal year:

• A Solicitation for Grant Applications (SGA) is published in the Federal Register.

• Applications received by the specified deadline are reviewed and evaluated.

• By September 30, grants are awarded to those community-based organizations ranked highest by the evaluation panel.

Since the agency generally has enough funds appropriated for awarding grants to only one-third of the applicants, the panelists ranking the applications need enough information to be able to rate and rank the proposals fairly and equitably. The applicants need to provide clear documentation of their organization's viability, their potential for completing their proposal, their ability to meet the intent of the WANTO Act, and their ability to establish linkages with employers and labor unions. The information required in the quarterly and final reports is the minimal information required by grant monitoring administrative requirements for nonprofit organizations, i.e. what goals have been met, which have not been met (and why), and any difficulties encountered.

Type of Review: New.

Agency: Office of the Secretary, Women's Bureau.

Title: Women in Apprenticeship and Nontraditional Occupations (WANTO) Act Grant Application and Reporting Requirements.

OMB Number: 1225-0NEW.

Recordkeeping: Records are normally required to be kept for 3 years.

Affected Public: Not-for-profit institutions.

Cite/Reference/Form/etc.: 29 U.S.C. 2501 et seq.

Total Respondents: 40.

Requirement | Frequency | Estimated number of responses | Average response time (hours) | Estimated annual burden hours
Grant Application:
Previous Applicant | Annually | 30 | 6 | 180
New Applicant | Annually | 10 | 12 | 120
Quarterly Reports:
Previous Applicant | Quarterly | 9 | 2 | 72
New Applicant | Quarterly | 3 | 5 | 60
Final Report:
Previous Applicant | Annually | 9 | 4 | 36
New Applicant | Annually | 3 | 10 | 30
Totals |  | 64 |  | 498

Total Burden Cost (capital/startup): $0.

Total Burden Cost (operating/maintaining): $0.

Comments submitted in response to this notice will be summarized and/or included in the request for Office of Management and Budget approval of the information collection request; they will also become a matter of public record.

Dated: May 6, 2002.
Loretta Herrington,
Deputy Director, Women's Bureau, Office of the Secretary.

[FR Doc. 02-11883 Filed 5-10-02; 8:45 am]

BILLING CODE 4510-23-P